DEPARTMENT OF LABOR

Mine Safety and Health Administration

Petitions for Modification

The following parties have filed petitions to modify the application of existing safety standards under section 101(c) of the Federal Mine Safety and Health Act of 1977.

1. Newtown Energy, Inc.

[Docket No. M-2000-158-C]

Newtown Energy, Inc., 13905 MacCorkle Avenue, One Carbon Center, Suite 200, Chesapeake, West Virginia 25315 has filed a petition to modify the application of 30 CFR 75.350 (air course and belt haulage entries) to its Eagle Mine No. 1 (I.D. No. 46-08759) located in Kanawha County, West Virginia. The petitioner requests a modification of the existing standard to permit the use of belt air to ventilate active working places. The petitioner proposes to install a low-level carbon monoxide monitoring system as an early warning fire-detection system in all belt entries used to course air to a working place. The petitioner asserts that the proposed alternative method would provide at least the same measure of protection as the existing standard.

2. G & P Contractors, Inc.

[Docket No. M-2000-159-C]

G & P Contractors, Inc., Rt. 1 Box 419-A1, Gray, Kentucky 40634 has filed a petition to modify the application of 30 CFR 75.380(f)(4)(I) (escapeways; bituminous and lignite mines) to its Powers Branch Mine (I.D. No. 15-18276) located in Whitley County, Kentucky. The petitioner proposes to use two ten-pound portable chemical fire extinguishers on each Mescher Jeep. The fire extinguishers would be readily accessible to the equipment operator. The petitioner proposes to instruct the equipment operator to inspect each fire extinguisher daily before entering the mine, replace all defective fire extinguishers before entering the mine, and maintain records of all inspections of the fire extinguishers. The petitioner asserts that because of the low, 24-inch height of the coal seam, available fire suppression systems will not fit on the equipment being used at the mine. The petitioner asserts that the proposed alternative method would provide at least the same measure of protection as the existing standard.

3. G & P Contractors, Inc.

[Docket No. M-2000-160-C]

G & P Contractors, Inc., Rt. 1 Box 419-A1, Gray, Kentucky 40634 has filed a petition to modify the application of 30 CFR 75.342 (methane monitors) to its Powers Branch Mine (I.D. No. 15-018276) located in Whitley County, Kentucky. The petitioner proposes to use hand-held, continuous-duty methane and oxygen indicators instead of machine-mounted methane monitors on three-wheel tractors with drag bottom buckets. The petitioner asserts that the proposed alternative method would provide at least the same measure of protection as the existing standard.

4. Rosebud Mining Company

[Docket No. M-2000-161-C]

Rosebud Mining Company, R.D. #9, Box 379A, Kittanning, Pennsylvania 16201 has filed a petition to modify the application of 30 CFR 75.1100-2(e)(2) (quantity and location of firefighting equipment) to its Clementine Mine (I.D. No. 36-08862) located in Armstrong County, Pennsylvania. The petitioner proposes to use two (2) fire extinguishers or one fire extinguisher of twice the required capacity at all temporary electrical installations instead of using 240 pounds of rock dust. The petitioner asserts that the proposed alternative method would provide at least the same measure of protection as the existing standard.

5. PennAmerican Coal, L.P.

[Docket No. M-2000-162-C]

PennAmerican Coal, L.P., RD #1, Box 119, Avonmore, Pennsylvania 15618 has filed a petition to modify the application of 30 CFR 75.350 (air courses and belt-haulage entries) to its Burrell Mine (I.D. No. 36-08525) located in Indiana County, Pennsylvania. The petitioner requests a modification of the existing standard to permit air ventilating the belt entry and associated entries in common with the belt to be used to ventilate a working section or sections. The petitioner proposes to install a carbon monoxide monitoring system in all belt entries in which air coursed through the belt entry is used to ventilate active working places. The petitioner asserts that the proposed alternative method would provide at least the same measure of protection as the existing standard.

6. T.J.S. Mining, Inc.

[Docket No. M-2000-163-C]

T.J.S. Mining, Inc., R.D. #1, Box 260-D, Shelocta, Pennsylvania 15774 has filed a petition to modify the application of 30 CFR 75.1100-2(e)(2) (quantity and location of firefighting and location of firefighting equipment) to its T.J.S #1 Mine (I.D. No. 36-08255), T.J.S. #4 Mine (I.D. No. 36-08694), Darmac #3 Mine (36-08278), and Darmac #2 Mine (I.D. No. 36-08135) all located in Armstrong County, Pennsylvania. The petitioner proposes to use two (2) fire extinguishers or one fire extinguisher of twice the required capacity at all temporary electrical installations instead of using 240 pounds of rock dust. The petitioner asserts that the proposed alternative method would provide at least the same measure of protection as the existing standard.

7. Excel Mining, LLC

[Docket No. M-2000-164-C]

Excel Mining, LLC, HC 67 Box 615, Pilgrim, Kentucky 41250 has filed a petition to modify the application of 30 CFR 75.701 (grounding metallic frames, casings, and other enclosures of electric equipment) to its Mine No. 1 (I.D. No. 15-08413), and Mine No. 2 (I.D. No. 15-09571) located in Martin County, Kentucky, and Mine No. 3 (I.D. No. 15-08079) located in Pike County, Kentucky. The petitioner proposes to use a 480-volt, three-phase, 150-KW diesel-powered generator in its underground coal mines. The petitioner asserts that the proposed alternative method would provide at least the same measure of protection as the existing standard. In subsequent correspondence, the petitioner has requested that this petition be withdrawn.

8. Excel Mining, LLC

[Docket No. M-2000-165-C]

Excel Mining, LLC, HC 67 Box 615, Pilgrim, Kentucky 41250 has filed a petition to modify the application of 30 CFR 75.901 (protection of low- and medium-voltage three-phase circuits used underground) to its Mine No. 1 (I.D. No. 15-08413), and Mine No. 2 (I.D. No. 15-09571) located in Martin County, Kentucky, and Mine No. 3 (I.D. No. 15-08079) located in Pike County, Kentucky. The petitioner proposes to use 480-volt, three-phase, 150-KW diesel-powered generator in its underground coal mines. The petitioner asserts that the proposed alternative method would provide at least the same measure of protection as the existing standard. In subsequent correspondence, the petitioner has requested this petition be withdrawn.

9. Straight Fork Mining, Inc.

[Docket No. M-2000-166-C]

Straight Fork Mining, Inc., P.O. Box 249, Stanville, Kentucky 41659 has filed a petition to modify the application of 30 CFR 75.503 (permissible electric face equipment; maintenance) and 30 CFR 18.41(f) (plug and receptacle-type connectors) to its Skullfork Mine (I.D. No. 15-18186) located in Knott County, Kentucky. The petitioner proposes to use a permanently installed spring-loaded device on mobile battery-powered equipment to prevent unintentional loosening of battery plugs from battery receptacles instead of using padlocks. The petitioner asserts that the proposed alternative method would provide at least the same measure of protection as the existing standard.

10. Big Ridge, Inc.

[Docket No. M-2000-167-C]

Big Ridge, Inc., 29 West Raymond Street, P.O. Box 444, Harrisburg, Illinois 62946 has filed a petition to modify the application of 30 CFR 75.1700 (oil and gas wells) to its Willow Lake Portal Mine (I.D. No. 11-03054) located in Saline County, Illinois. The petitioner proposes to plug oil and gas wells and then mine in close proximity or through the plugged wells using specific procedures outlined in this petition for modification. The petitioner asserts that the proposed alternative method would provide at least the same measure of protection as the existing standard.

11. D & R Coal Company, Inc.

[Docket No. M-2000-168-C

D & R Coal Company, Inc., P.O. Box 728, Barbourville, Kentucky 40906 has filed a petition to modify the application of 30 CFR 75.342 (methane monitors) to its Mine #2 (I.D. No. 15-18261) located in Knox County, Kentucky. The petitioner proposes to use hand-held, continuous-duty methane and oxygen indicators on three-wheel tractors with drag bottom buckets instead of using machine-mounted monitors. The petitioner asserts that the proposed alternative method would provide at least the same measure of protection as the existing standard.

12. D & R Coal Company, Inc.

[Docket No. M-2000-169-C]

D & R Coal Company, Inc., P.O. Box 728, Barbourville, Kentucky 40906 has filed a petition to modify the application of 30 CFR 75.380(f)(4)(i) (escapeways, bituminous and lignite mines) to its Mine #2 (I.D. No. 15-18261) located in Knox County, Kentucky. The petitioner proposes to install two five-pound or one ten-pound portable chemical fire extinguisher in the operator deck of each Mescher tractor. The fire extinguishers would be readily accessible to the equipment operator. The petitioner proposes to instruct the equipment operator to inspect each fire extinguisher daily before entering the mine, replace all defective fire extinguishers before entering the mine, and maintain records of all inspections of the fire extinguishers. The petitioner asserts that the proposed alternative method would provide at least the same measure of protection as the existing standard.

13. Penn View Mining, Inc.

[Docket No. M-2000-173-C]

Penn View Mining, Inc., R.D. #1, Box 260-D, Shelocta, Pennsylvania 15774 has filed a petition to modify the application of 30 CFR 75.1100-2(e)(2) (quantity and location of firefighting and location of firefighting equipment) to its and Penn View Mine (I.D. No. 36-08741) located in Indiana County, Pennsylvania. The petitioner proposes to use two (2) fire extinguishers or one fire extinguisher of twice the required capacity at all temporary electrical installations instead of using 240 pounds of rock dust. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before May 10, 2001. Copies of these petitions are available for inspection at that address.

Dated at Arlington, Virginia this 27th day of March 2001.
David L. Meyer,
Director, Office of Standards, Regulations, and Variances.

[FR Doc. 01-8732 Filed 4-9-01; 8:45 am]

BILLING CODE 4510-43-U